DEPARTMENT OF LABOR

Employment and Training Administration

[TA-W-59,552]

Admiral Foundry, Formerly The Admiral Machine Company, Wadsworth, OH; Notice of Affirmative Determination Regarding Application for Reconsideration

By application dated August 1, 2006, the International Union, United Automobile, Aerospace & Agricultural Implement Workers of America, Region 2-B (Union), requested administrative reconsideration of the Department of Labor's Notice of Negative Determination Regarding Eligibility to Apply for Worker Adjustment Assistance, applicable to workers and former workers of Admiral Foundry, formerly the Admiral Machine Company, Wadsworth, Ohio (subject firm). The Department's determination was issued on June 28, 2006, and was published in the Federal Register on July 17, 2006 (71 FR 40551).

In the request for reconsideration, the Union states that the subject firm produced both castings and molds used in the tire industry. The determination states that the subject firm produces cast aluminum tire molds.

The petition (dated June 9, 2006) filed by the Union on behalf of workers at the subject firm states that the subject facility produces “castings & molds for tire industry.”

The Department has carefully reviewed the Union's request for reconsideration and has determined that the Department will conduct further investigation based on new information provided.

Conclusion

After careful review of the application, I conclude that the claim is of sufficient weight to justify reconsideration of the Department of Labor's prior decision. The application is, therefore, granted.

Signed at Washington, DC, this 9th day of August 2006.
Elliott S. Kushner,
Certifying Officer, Division of Trade Adjustment Assistance.

[FR Doc. E6-13514 Filed 8-15-06; 8:45 am]

BILLING CODE 4510-30-P